DEPARTMENT OF AGRICULTURE

Grain Inspection, Packers and Stockyards Administration

United States Standards for Beans

AGENCY: Grain Inspection, Packers and Stockyards Administration, USDA.

ACTION: Notice of reopening of comment period.

SUMMARY: We published a notice in the Federal Register on April 17, 2007 (72 FR 19169), inviting comments regarding the revision of the U.S. Standards for Beans. The proposed revisions would provide applicants for service with an optional grade designation for bean certification; and remove the requirements that the percentage of high moisture and, for Mixed beans, the percentage of each class in the mixture, be shown on the grade line. The notice provided an opportunity for interested parties to forward written comments to the Grain Inspection, Packers and Stockyards Administration (GIPSA) until May 17, 2007. Due to the continued high level of interest in this notice, we are reopening the comment period to provide interested parties with additional time to comment.

DATES: We will consider comments that we receive by April 1, 2008.

ADDRESSES: We invite you to submit your comments on the notice. You may submit comments by any of the following methods:

• E-mail: Send comments via electronic mail to comments.gipsa@usda.gov.

• Mail: Send hardcopy written comments to Tess Butler, GIPSA, USDA, 1400 Independence Avenue, SW., Room 1633-S, Washington, DC 20250-3604.

• Fax: Send comments by facsimile transmission to: (202) 690-2173.

• Hand Delivery or Courier: Deliver comments to: Tess Butler, GIPSA, USDA, 1400 Independence Avenue, SW., Room 1643-S, Washington, DC 20250-3604.

• Federal eRulemaking Portal: Go to http://www.regulations.gov. Follow the online instructions for submitting comments.

• Instructions: All comments should make reference to the date and page number of this issue of the Federal Register.

• Read Comments: All comments will be available for public inspection in the above office during regular business hours (7 CFR 1.27 (b)).

FOR FURTHER INFORMATION CONTACT: Beverly A. Whalen at USDA, GIPSA, FGIS, Market and Program Analysis Staff, Suite 180, STOP 1404, 6501 Beacon Drive, Kansas City, Missouri, 64133; Telephone (816) 823-4648; Fax Number (816) 823-4644; e-mail Beverly.A.Whalen@usda.gov.

SUPPLEMENTARY INFORMATION: GIPSA published a notice in the Federal Register on April 17, 2007 (72 FR 19169), inviting comments from all interested persons on the proposed revisions to the U.S. Standards for Beans. The proposed revisions would provide applicants for service with an optional grade designation for bean certification and remove the requirements that the percentage of high moisture, and, for Mixed beans, the percentage of each class in the mixture, be shown on the grade line. For ease of reference, we have included in this notice a discussion of the revisions to the U.S. Standards for Beans that are under consideration.

Optional Grade Designation and Certification Procedures

Currently, inspectors certify beans offered for inspection as a specific quality (U.S. grade), such as U.S. No. 2 Pinto Beans. Certifying a specific grade is commonly referred to as “Option 1” grade designation. This works well most of the time; however, there are exceptions. At times, sellers find when preparing to load beans for shipment that the supply of a particular grade of bean may be insufficient to meet the quality and quantity requirements specified in the sales contract. When this happens, the seller may find it necessary to ship beans of a better quality. However, current inspection procedures do not allow the flexibility to describe or certify superior quality beans as being of a lower quality. If the lot presented for inspection is not uniform in quality for the declared grade, the inspector certifies each portion separately according to quality. That is, if a consignment consists of both U.S. No. 1 and 2 Pinto Beans, current procedure requires that the quantity representing each of the different qualities receive separate certification. Such certification may not meet the terms of sale for the contract.

An alternative approach is termed “Option 2” grade designation. When a contract specifies an Option 2 grade designation, the applicant may specifically request Option 2 certification. Under Option 2 certification, there would be no limitation placed on the amount of better quality beans in the lot. When a lot meets or is of better quality than the declared grade, inspectors would include the term “or better” immediately following the numerical or sample grade designation.

We would like to offer the Option 2 grade designation and certification approach for beans. Under such an approach, the applicant for inspection can obtain the optional certification procedure by requesting it on the application for inspection. The applicant would file the request for the optional certification prior to the beginning of inspection so the inspector knows how to certify the lot. Beans that are a better quality than that specified by the contract would be certified as a specific grade “or better” (for example, U.S. No. 2, or better, Pinto Beans). We believe that Option 2 grade designation and certification will provide sellers with the flexibility to ship beans of better quality, and provide buyers with the desirable option of receiving better quality.

High Moisture Beans

The special grade designation “High moisture” is applicable to all classes of beans containing over 18.0 percent moisture and is required to be shown on the grade line of the certificate. We will continue to show the special grade designation “High moisture” on the grade line, when applicable, but propose to list the moisture percentage in the “Results” section of the certificate. This approach is intended to enhance the readability of the certificate.

Mixed Dry Beans

We also propose to eliminate the requirement that certain grade related information be shown on the grade line of the certificate for the class of Mixed beans. Currently, the U.S. Standards for Beans require a breakdown of the different classes, in order of predominance, be shown on the grade line of the certificate, in addition to the regular grade designation information, when the beans are classed as Mixed beans. Instead of showing this information on the grade line, we propose to enter such information in the “Results” section of the certificate. This approach will not change the grade of the product and will enhance the readability of the certificate.

Comments

The comment period of 30 days from the date of publication (72 FR 19169) closed on May 17, 2007. Due to continued high level of interest in the April 17, 2007 notice, GIPSA is reopening the comment period to provide interested parties additional time to comment. As a result, the comment period is reopened for a 60 day period. We welcome both comments from interested persons who did not comment during the initial 30 day period, as well as those interested persons who have already commented.

Authority: 7 U.S.C. 1621-1627.

David R. Shipman,
Acting Administrator, Grain Inspection, Packers and Stockyards Administration.

[FR Doc. E8-1819 Filed 1-31-08; 8:45 am]

BILLING CODE 3410-KD-P